DEPARTMENT OF COMMERCE

International Trade Administration

Secretarial Business Development Mission to Peru and Chile

AGENCY: International Trade Administration, Department of Commerce.

ACTION: Notice to Announce Secretary Evans—Business Development Mission to Peru and Chile, December 2-6, 2002.

SUMMARY: Secretary of Commerce Donald Evans will lead a senior-level business development mission to Lima, Peru and Santiago, Chile December 2-6, 2002. The focus of the mission will be to help U.S. companies explore business opportunities in Peru, the Andean Region and Chile. The delegation will include approximately 15 U.S.-based senior executives of small, medium and large U.S. firms representing, but not limited to the following sectors: energy, services, machinery and equipment, information and communication technologies. Service exports have become an increasingly important part of U.S. trade with Chile and Peru with opportunities in areas that support the development of their increasingly export-oriented economies.

DATES: Applications should be submitted to the Office of Business Liaison by October 2, 2002. Applications received after that date will be considered only if space and scheduling constraints permit.

CONTACT: Office of Business Liaison; Room 5062; Department of Commerce; Washington, DC 20230; Tel: (202) 482-1360; Fax: (202) 482-4054.

SUPPLEMENTARY INFORMATION:

Secretarial Business Development Mission to Peru and Chile December 2-6, 2002

Mission Statement

I. Description of the Mission

Secretary of Commerce Donald Evans will lead a senior-level business development mission to Lima, Peru and Santiago, Chile.

The focus of the mission will be to help U.S. companies explore business opportunities in Peru, the Andean Region and Chile. The delegation will include approximately 15 U.S.-based senior executives of small, medium and large U.S. firms representing, but not limited to the following sectors: energy, services, machinery and equipment, information and communication technologies. Service exports have become an increasingly important part of U.S. trade with Chile and Peru with opportunities in areas that support the development of their increasingly export-oriented economies.

II. Commercial Setting for the Mission

Peru is an economically stable and growing marketplace. With a population of nearly 30 million, an entrepreneurial spirit and a democratic tradition, Peru offers both U.S. exporters and investors an attractive entry to the entire Andean Community. As Peru seeks economic growth within a policy of fiscal prudence, future privatization and development of emerging sectors that take advantage of the Andean Trade Preference Act are creating opportunities in a number of sectors (see above). Transparency in rule-making and customs have been strengthened in the past ten years, and Peru is currently negotiating a bilateral investment treaty with the United States. Currently, the U.S. is Peru's single largest trading partner, accounting for 30% of their imports and 25% of Peru's exports, with two-way trade totaling nearly $4 billion last year.

Peru is an attractive entry to the rest of the Andean region, consisting of Bolivia, Colombia, Ecuador and Venezuela. Combined, these countries have a total marketplace of 112 million people with a combined GDP of 290 billion dollars. With Andean Community harmonization continuing in customs rates and policies, as well as a continual lowering of internal community tariffs, Peru is well situated to take advantage of these benefits.

Chile is one of the Latin American region's most dynamic and promising markets. Its strength and attractiveness lie not in its size (population of 15 million people), but in the energy and professionalism of its entrepreneurs, the transparency of its regulation, and the predictability of its decision-makers. Market-led reforms adopted close to 30 years ago and an increasingly diversified economy with strong ties to buyers and suppliers in the Americas, Europe and Asia have given Chile a wide range of options for further growth. Prudent economic policy-making has secured long-term stability. Chile is a particularly promising market for high technology and capital goods. The U.S. is Chile's largest single supplier (almost 23 percent of imports) with two-way trade totaling almost $7 billion last year.

The U.S. and Chile are currently working to conclude a bilateral free trade agreement that will foster economic growth and create higher paying jobs in the United States by reducing and eliminating barriers to trade and investment. The agreement will create improved market opportunities for U.S. goods and services exports, providing important benefits for U.S. workers, farmers, businesses and families. The agreement with Chile will also assist U.S. efforts to create competition among countries for liberalization in the Western Hemisphere, thus furthering our efforts to establish a Free Trade Area of the Americas (FTAA).

III. Goals for the Mission

The mission will further both U.S. commercial policy objectives and advance specific business interests. It is intended:

• To assist individual U.S. companies pursue export and other new business opportunities in Peru, Chile and the Andean Region, by introducing them to key host government decision-making officials and to potential business partners;

• To assist potential new-to-market firms evaluate the market potential for their products and gain an understanding of how to operate successfully in the commercial environment of Peru and Chile;

• To enhance the dialogue between government and industry on issues affecting the development of U.S.-Peru and U.S.-Chile commercial relations;

• To emphasize the benefits of international trade for improving the standard of living and quality of life; and

• To highlight examples of corporate citizenship and active involvement by U.S. businesses in the communities where they operate in the United States and abroad.

IV. Scenario for the Mission

The Business Development Mission will provide participants with exposure to high-level business and government contacts and an understanding of market trends and the commercial environment of Peru and Chile. U.S. Embassy officials will provide detailed briefings on the economic, commercial and political climates, and participants will receive individual counseling on their specific interests from U.S. Commercial Service industry specialists.

Meetings will be arranged as appropriate with senior government officials and potential business partners. Representational events also will be organized to provide mission participants with opportunities to meet Peru and Chile's business and government representatives, as well as U.S. business people living and working in Peru and Chile.

The tentative trip itinerary will be as follows:

December 2nd—Arrive Lima, Peru

December 3rd—One-on-One Business Meetings in Lima

December 4th—One-on-One Business Meetings in Lima, Travel to Santiago, Chile

December 5th—One-on-One Business Meetings in Santiago

December 6th—One-on-One Business Meetings in Santiago

December 6th or 7th—Departure for U.S.

V. Criteria for Participant Selection

The recruitment and selection of private sector participants for this mission will be conducted according to the “Statement of Policy Governing Department of Commerce Overseas Trade Missions” established in March 1997 (http://www.ita.doc.gov/doctm/tmpol.html).

Promotion and recruitment will include, but not be limited to, posting on appropriate Department of Commerce web pages, notification in the Federal Register, and through distribution of the trade mission statement and further information to national and other trade associations and trade publications. Approximately 15 companies will be selected for the mission. Companies will be selected according to the criteria set out below.

Eligibility

Participating companies must be incorporated in the United States. A company is eligible to participate only if the products and/or services that it will promote (a) are manufactured or produced in the United States; or (b) if manufactured or produced outside the United States, are marketed under the name of a U.S. firm and have U.S. content representing at least 51 percent of the value of the finished good or service.

Selection Criteria

Companies will be selected for participation in the mission on the basis of:

• Consistency of company's goals with the scope and desired outcome of the mission as described herein;

• Relevance of a company's business and product line to market opportunities in Peru and Chile;

• Seniority of the representative of the designated company;

• Past, present, or prospective international business activity;

• Diversity of company size, type, location, demographics, and traditional under-representation in business;

• Degree of company's commitment to corporate citizenship.

An applicant's partisan political activities (including political contributions) are irrelevant to the selection process.

VI. Time Frame for Applications

Applications for the trade mission to Peru and Chile will be made available on or about August 21, 2002. The fee to participate in the mission will be between $6000-$8000 per company. Expenses for travel, lodging, and some meals will be the responsibility of each participant. For additional information on the trade mission or to obtain an application, contact the Department of Commerce Office of Business Liaison at 202-482-1360. Applications should be submitted to the Office of Business Liaison by October 2, 2002, in order to ensure sufficient time to obtain in-country appointments for applicants selected to participate in the mission. Applications received after that date will be considered only if space and scheduling constraints permit.

Contact: Office of Business Liaison, Room 5062, Department of Commerce, Washington, DC 20230, Tel: (202) 482-1360, Fax: (202) 482-4054, http://www.doc.gov/peruchiletrademission.

Dated: August 22, 2002.
Maria Cino,
Assistant Secretary and Director General.

[FR Doc. 02-22017 Filed 8-28-02; 8:45 am]

BILLING CODE 3510-FP-P